DEPARTMENT OF HEALTH AND HUMAN SERVICES

Centers for Disease Control and Prevention

Statement of Organization, Functions, and Delegations of Authority

Part C (Centers for Disease Control and Prevention) of the Statement of Organization Functions, and Delegations of Authority of the Department of Health and Human Services (45 FR 67772-76, dated October 14, 1980, and corrected at 45 FR 69296, October 20, 1980, as amended most recently at 70 FR 72842-72843, dated December 7, 2005) is amended to reflect the establishment of the Division for Heart Disease and Stroke Prevention, National Center for Chronic Disease Prevention and Health Promotion, Centers for Disease Control and Prevention.

Delete in its entirety the title and functional statement for the Cardiovascular Health Branch (CL33), Division of Adult and Community Health (CL3).

After the mission statement for the Program Services Branch (CUCLD), Office of Smoking and Health (CUCL), insert the following:

Division for Heart Disease and Stroke Prevention (CUCM). (1) Plans, directs, and coordinates programs to reduce morbidity, risk factors, costs, disability, mortality, and disparities associated with heart disease, stroke, and other cardiovascular disease outcomes; (2) provides national leadership, technical assistance, expert consultation, and training to state and local health agencies in intervention, surveillance, evaluation, and communication or marketing activities related to implementing state programs, registries, and other surveillance systems associated with reducing and preventing cardiovascular disease outcomes; (3) provides national leadership and coordination of the agency-wide cardiovascular collaborative; (4) implements surveillance systems and conducts surveillance of outcomes and utilization of health care and prevention resources related to heart disease, stroke, high blood pressure, high cholesterol, and other cardiovascular diseases to monitor trends and evaluate program impact on morbidity, mortality, risk factor improvement, cost, disability, and disparities; (5) conducts epidemiologic studies and disseminates findings to identify emerging risk factors with potential for prevention and control strategies; (6) conducts prevention research studies and disseminates findings to identify and evaluate the feasibility and effectiveness of potential prevention and control strategies in health care systems and at the community level; (7) identifies, implements, and evaluates programs to prevent and control heart disease, stroke, high blood pressure, high cholesterol, other cardiovascular disease outcomes, and disparities through the translation and communication of best practices in health care and risk factor prevention into widespread health systems policies and community changes; (8) collaborates with other cardiovascular health related activities at CDC, including the Lipid Standardization Program, within the National Center for Environmental Health/Division of Laboratory Sciences, and the Thrombosis Lab, within the National Center on Birth Defects and Developmental Disabilities/Division of Hematologic Diseases; (9) maintains liaison and collaborative relationships with official, private, voluntary agencies, educational institutions, or other groups involved in the prevention and control of heart disease, stroke, and other cardiovascular diseases or risk factors; (10) provides technical assistance and consultation to other nations and to the World Health Organization in the global prevention and control of cardiovascular disease.

Office of the Director (CUCM1). (1) Establishes and interprets policies and determines program priorities; (2) provides leadership and guidance in program planning and development, program management, program evaluation, budget development, and division operations; (3) monitors progress toward achieving division objectives and assessing the impact of programs; (4) insures that division activities are coordinated with other components of CDC both within and outside the center, with Federal, state and local agencies, and related voluntary and professional organizations; (5) coordinates division responses to requests for technical assistance or information on primary and secondary heart disease and stroke prevention practices, behaviors and policies, including division activities and programs; (6) serves as the co-lead for the Healthy People 2010 heart disease and stroke objectives for the nation; (7) provides national leadership in coordinating and implementing activities to support a public health action plan to prevent heart disease and stroke; (8) develops and produces communications tools and public affairs strategies to meet the needs of division programs and mission; (9) develops health communication campaigns at the national and state levels; (10) guides the production and distribution of print, broadcast, and electronic materials for use in programs at the national and state levels; (11) provides leadership, consultation and technical assistance on health communication issues for heart disease and stroke prevention; (12) reports accomplishments, future directions, and resource requirements; (13) provides program management and administrative support services; (14) represents the division at official professional and scientific meetings.

Epidemiology and Surveillance Branch (CUCMB). (1) Monitors the epidemiology of cardiovascular disease risk factors, behaviors, outcomes, costs, barriers, awareness, access to care, geographic variations and disparities; (2) prepares routine surveillance reports of national and state trends in cardiovascular disease risk factors, behaviors, outcomes, and disparities, which includes the mapping of geographic variations; (3) develops, designs, implements, and evaluates new cardiovascular disease registries and other surveillance systems that address gaps in existing CDC surveillance systems; (4) prepares epidemiologic and scientific papers for publication in medical and public health journals and for presentation to national public health and scientific conferences on surveillance and epidemiologic findings; (5) identifies, investigates, implements, and evaluates new surveillance methodologies and technologies that involve electronic data abstraction and transfer to State and national registries and spatial analysis; (6) proposes and serves as technical advisers and project officers for epidemiologic research projects that fill gaps in surveillance and intervention and investigates emerging risk factors that will lead to the prevention of cardiovascular disease and the elimination of disparities in cardiovascular disease; (7) serves as scientific and technical experts in cardiovascular disease epidemiology and surveillance methodology to state health departments or to advisory groups at the national/international level; (8) provides scientific leadership in the development, extension, and improvement of surveillance systems, epidemiologic strategies, and/or service to cardiovascular health programs; (9) facilitates integration of epidemiology and surveillance across the division.

Applied Research and Evaluation Branch (CUCMC). (1) Develops a comprehensive applied research and translation agenda, including evaluation, research and health economic research; (2) plans, develops, and implements projects related to applied research, evaluation research, and health economics research; (3) prepares scientific papers for publication in public health media journals and for presentation at national and international conferences, meetings and seminars on applied research, evaluation research and health economics research; (4) synthesizes a body of best science and practice that can be applied to various public health settings; (5) prepares and disseminates products that translate applied research, evaluation research, and health economics science to state programs and other; (6) develops a comprehensive division evaluation plan addressing all facets of division activities, including state-based program evaluation, research evaluation, and evaluation training needs; (7) provides applied research, evaluation, and health economics expertise and technical assistance to the division, center, CDC, and national and international partners.

Program Development and Services Branch (CUCMD). (1) Provides programmatic leadership and support for state-based heart disease and stroke prevention programs; (2) provides comprehensive technical advice and assistance in planning, developing and evaluating the state programs; (3) provides program policies and guidance outlining CDC's role and the national goals and objectives of the State Heart Disease and Stroke Prevention Program; (4) reviews and monitors the state cooperative agreements and other appropriate grantees; (5) serves as technical experts in the implementation of policy and environmental strategies for health promotion, primary and secondary prevention of heart disease and stroke for states, within CDC and with partners; (6) provides comprehensive training expertise, including distance learning, training seminars, meetings, state success documents, and other materials to promote the programs and assist state grantees with planning and implementation of a state-based program; (7) implements and monitors management information systems for state heart disease and stroke prevention programs to monitor the national progress toward achieving Health People 2010 and division goals; (8) obtains, analyzes, and disseminates, data from state-based heart disease and stroke prevention programs to develop operational strategies for translation of results into improved program practice; (9) provides leadership in the development of partnerships between state programs and organizations at the national and state level; (10) provides technical assistance to state programs on use of data and other basic areas of epidemiology; (11) develops systematic processes for providing state program guidance through determining and disseminating promising program intervention practices and providing opportunities for states to share information and tools for program improvement; (12) partners with national organizations that can assist states with priority activities; (13) provides leadership; and technical expertise, in women's cardiovascular health, health disparities and healthcare interventions for cardiovascular primary and secondary prevention programs as it relates to the Well-Integrated Screening and Evaluation for Women Across the National (WISEWOMAN) Program; (14) develops and implements CDC programs and research that impact heart disease and stroke risk factors in financially vulnerable, uninsured and underinsured women aged 40-64; (15) facilitates the integration of program services across the division.

Dated: January 20, 2006.
William H. Gimson,
Chief Operating Officer, Centers for Disease Control and Prevention (CDC).

[FR Doc. 06-857 Filed 1-30-06; 8:45 am]

BILLING CODE 4160-18-M